DEPARTMENT OF LABOR

Employment and Training Administration

[TA-W-61,802]

Hoffman Industries, Inc., Sinking Spring, PA; Notice of Termination of Investigation

Pursuant to Section 221 of the Trade Act of 1974, as amended, an investigation was initiated on July 9, 2007, in response to a worker petition filed by a company official on behalf of workers at Hoffman Industries, Inc., Sinking Spring, Pennsylvania.

The petitioner has requested that the petition be withdrawn. Consequently, the investigation has been terminated.

Signed at Washington, DC this 18th day of July 2007.
Elliott S. Kushner,
Certifying Officer, Division of Trade Adjustment Assistance.

[FR Doc. E7-14421 Filed 7-25-07; 8:45 am]

BILLING CODE 4510-FN-P